DEPARTMENT OF THE TREASURY

Internal Revenue Service

26 CFR Part 300

[REG-144990-12]

RIN 1545-BL37

User Fees for Processing Installment Agreements and Offers in Compromise; Hearing Cancellation

AGENCY: Internal Revenue Service (IRS), Treasury.

ACTION: Cancellation of a notice of public hearing on proposed rulemaking.

SUMMARY: This document cancels a public hearing on proposed regulations that amend the provider user fees for installment agreements and offers in compromise.

DATES: The public hearing originally scheduled for October 1, 2013 at 10 a.m. is cancelled.

FOR FURTHER INFORMATION CONTACT: Oluwafunmilayo Taylor of the Publications and Regulations Branch, Legal Processing Division, Associate Chief Counsel (Procedure and Administration) at (202) 622-7180 (not a toll-free number).

SUPPLEMENTARY INFORMATION: A notice of proposed rulemaking and a notice of public hearing that appeared in the Federal Register on Friday August 30, 2013 (78 FR 53702) announced that a public hearing was scheduled for October 1, 2013, at 10 a.m. in the IRS Auditorium, Internal Revenue Building, 1111 Constitution Avenue NW., Washington, DC. The subject of the public hearing is under sections 6159 and 7122 of the Internal Revenue Code.

The public comment period for these regulations expired on September 30, 2013. The notice of proposed rulemaking and notice of public hearing instructed those interested in testifying at the public hearing to submit a request to speak and an outline of the topics to be addressed. The hearing was not held on October 1, 2013, due to the closure of the Federal Government. As of October 17, 2013, the date of the reopening of the Federal Government, there were no requests to speak. Therefore, the public hearing scheduled for October 1, 2013, is cancelled and will not be rescheduled.

Martin V. Franks,
Chief, Publications and Regulations Branch, Legal Processing Division, Associate Chief Counsel, (Procedure and Administration).

[FR Doc. 2013-26280 Filed 11-1-13; 8:45 am]

BILLING CODE 4830-01-P